DEPARTMENT OF EDUCATION

National Assessment Governing Board; Meeting

AGENCY: National Assessment Governing Board; Education

ACTION: Notice of open meeting and partially closed meetings.

SUMMARY: This notice sets forth the schedule and proposed agenda of a forthcoming meeting of the National Assessment Governing Board. This notice also describes the functions of the Board. Notice of this meeting is required under section 10(a)(2) of the Federal Advisory Committee Act. This document is intended to notify the general public of their opportunity to attend. Individuals who will need accommodations for a disability in order to attend the meeting (i.e. interpreting services, assistive listening devices, materials in alternative format) should notify Munira Mwalimu at 202-357-6938 or at Munira.Mwalimu@ed.gov no later than February 28, 2003. We will attempt to meet requests after this date, but cannot guarantee availability of the requested accommodation. The meeting site is accessible to individuals with disabilities.

DATES: March 6-March 8, 2003.

Times:

March 6: Assessment Development Committee: Closed Session—12 p.m.-2:30 p.m.; Ad Hoc Committee on Background Questions: Open Session-2:30 p.m. to 4:30 p.m.; Ad Hoc Committee on NAEP Sampling Studies: Open Session—2:30 p.m. to 4:30 p.m.; Executive Committee Meeting: Open Session—5 p.m.-6:15 p.m.; Closed Session 6:15 p.m. to 7 p.m.

March 7: Full Board Meeting: Open Session 8:30 a.m.-12 p.m.; Committee Meetings (Open): Assessment Development Committee 10 a.m.-12:00 p.m.; Committee on Standards, Design and Methodology, 10 a.m.-12 p.m.; Reporting and Dissemination Committee, 10 a.m.-12 p.m.; Full Board—Closed Meeting 12 p.m.-1 p.m., Open Meeting 1 p.m.-4:15 p.m.

March 8: Nominations Committee Meeting: Closed Meeting 8 a.m.-9:00 a.m.; Full Board Meeting: Open Session 9 a.m.-12 p.m.

LOCATION: Sheraton Premiere at Tysons Corner, 8661 Leesburg Pike, Arlington, Virginia 22182.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

The Assessment Development Committee will meet in closed session on March 6 from 12 p.m. to 2:30 p.m. to review secure test items for the National Assessment of Educational Progress (NAEP) 2004 Grade 12 Foreign Language Assessment in Spanish. The meeting must be conducted in closed session as disclosure of proposed test items from the 2004 NEAP Foreign Language Assessment would significantly impede implementation of the NAEP program, and is therefore protected by exemption 9(B) of section 552b(c) of Title 5 U.S.C.

The Executive Committee will meet in partially closed session on March 6 from 6:15 p.m. to 7 p.m. to receive independent cost estimates on contract initiatives for the National Assessment of Educational Program (NAEP) program. The meeting must be conducted in closed session because public disclosure of this information would likely have an adverse financial effect on the NAEP program. The discussion of this information would be likely to significantly impede implementation of a proposed agency action if conducted in open session. Such matters are protected by exemption 9(B) of section 552b(c) of Title 5 U.S.C.

On March 7, 2003 the full Board will convene in open session from 8:30 a.m.-10 a.m. The Board will approve the agenda and hear welcoming remarks from the Superintendent of Fairfax County Public Schools, Daniel Domenech. The Board will then receive the Executive Director's report and a NAEP Update from the Associate Commissioner of NCES, Val Plisko. From 10 a.m. to 12 p.m., the Board's standing committees—the Assessment Development Committee, the Committee on Standards, Design, and Methodology, and the Reporting and Dissemination Committee will meet in open session.

The full Board will meet in partially closed session on March 7, 2003 from 12 p.m. to 1 p.m. to receive results of the 2002 NAEP Reading Assessment. This meeting must be closed because the results of the Reading Assessment are under development and have not been released to the public. Premature disclosure of the information would significantly frustrate implementation of a proposed agency action if conducted in open session. Such matters are protected by exemption 9(B) of section 552b(c) of Title U.S.C.

The full Board will reconvene in open session on March 7, 2003 from 1 p.m.-4:15 p.m. The Board will receive an update on the 2007 Reading Framework Project at 1 p.m. followed by an update on the NAEP Background Question Framework from 1:30 p.m. to 2:30 p.m. From 2:45 p.m. to 3:45 p.m., the Board will receive a briefing on the American Diploma Project. This session will be followed by an ethics briefing from 3:45 p.m. to 4:15 p.m. upon which the March 7 session of the Board will adjourn.

The Nominations Committee will meet in closed session on March 8, 2003 from 8 a.m. to 9 a.m. to receive nominations for Board membership. This discussion pertains solely to internal personnel rules and practices of an agency and will disclose information of a personal nature where disclosure would constitute an unwarranted invasion of personal privacy. As such, the discussions are protected by exemptions 2 and 6 of section 552b(c) of Title 5 U.S.C.

On March 8, 2003 the full Board will meet in open session from 9 a.m. to 12 p.m. The Board will receive an update on plans for the 12th grade NAEP Commission. This presentation will be followed by Board actions on policies and Committee reports. The March 8, 2003 session of the Board meeting will adjourn at 12 noon.

Summaries of the activities of the closed session and related matters, which are informative to the public and consistent with the policy of section 5 U.S.C. 552b(c), will be available to the public within 14 days of the meeting. Records are kept of all Board proceedings and are available for public inspection at the U.S. Department of Education, National Assessment Governing Board, Suite #825, 800 North Capitol Street, NW, Washington DC from 9 a.m. to 5 p.m. Eastern Standard Time.

Dated: February 14, 2003.
Charles Smith,
Executive Director, National Assessment Governing Board.

[FR Doc. 03-4151 Filed 2-20-03; 8:45 am]

BILLING CODE 4000-01-M